NATIONAL AERONAUTICS AND SPACE ADMINISTRATION

[Notice 20-060]

Applied Sciences Advisory Committee; Meeting.

AGENCY: National Aeronautics and Space Administration.

ACTION: Notice of meeting.

SUMMARY: In accordance with the Federal Advisory Committee Act, as amended, the National Aeronautics and Space Administration (NASA) announces a meeting of the Applied Sciences Advisory Committee (ASAC). This Committee functions in an advisory capacity to the Director, Earth Science Division, in the NASA Science Mission Directorate. The meeting will be held for the purpose of soliciting, from the science community and other persons, scientific and technical information relevant to program planning.

DATES: Tuesday, July 28, 2020, 12:30 p.m.—4:00 p.m.; Wednesday, July 29, 2020, 9:00 a.m.—1:00 p.m.; and Thursday, July 30, 2020, 11:30 a.m.—4:00 p.m., Eastern Time.

SUPPLEMENTARY INFORMATION: This meeting will be open to the public. The meeting will take place telephonically and via WebEx. Any interested person must use a touch-tone phone to participate in this meeting. Any interested person may call the number 1-888-677-3055, passcode 6537636, followed by the # sign to participate in this meeting by telephone on all three days. The WebEx link is https://nasaenterprise.webex.com/. The meeting number on July 28 is 199 771 4350 and the password is nAJpDq8g?33. The meeting number on July 29 is 199 997 7136 and the password is F23u2hywM5*. The meeting number on July 30 is 199 251 8740 and the password is eZpJ6Wg3A$5.

The agenda for the meeting includes the following topics:

• Earth Science and Applied Sciences Program Updates

• Consortium approaches used by the Applied Sciences Program

• Research and Analysis Program and linkages to the Applied Sciences Program

• Earth Science Data Systems Program and linkages to the Applied Sciences Program

FOR FURTHER INFORMATION CONTACT: Ms. KarShelia Henderson, Science Mission Directorate, NASA Headquarters, Washington, DC 20546, (202) 358-2355, fax (202) 358-2779, or khenderson@nasa.gov.

It is imperative that the meeting be held on these dates to accommodate the scheduling priorities of the key participants.

Patricia D. Rausch,
Advisory Committee Management Officer, National Aeronautics and Space Administration.

[FR Doc. 2020-14180 Filed 6-30-20; 8:45 am]

BILLING CODE 7510-13-P